DEPARTMENT OF THE INTERIOR

Geological Survey

Agency Information Collection Activity

AGENCY: United States Geological Survey (USGS), Interior.

ACTION: Notice; request for comments.

SUMMARY: We (the U.S. Geological Survey) have sent an Information Collection Request (ICR) to the Office of Management and Budget (OMB) for review and approval. The ICR which is summarized below describes the nature of this collection and the estimate burden and cost. We may not conduct or sponsor, and a person is not required to respond to a collection of information unless it displays a currently valid OMB control number.

DATES: You must submit comments on or before March 10, 2010.

ADDRESSES: Send your comments and suggestions on this information collection to the Desk Officer for the Department of the Interior at OMB-OIRA at (202) 395-5806 (fax) or OIRA_DOCKET@OMB.eop.gov (e-mail). Please provide a copy of your comments to Phadrea Ponds, USGS Information Collection Clearance Officer, 2150-C Center Avenue, Fort Collins, CO 80525 (mail); (970) 226-9230 (fax); or pponds@usgs.gov (e-mail). Please reference Information Collection 1028-0090 in the subject line.

FOR FURTHER INFORMATION CONTACT: William C. Burton at (703) 648-6904 or by mail at U.S. Geological Survey, 926A National Center, Sunrise Valley Drive, Reston, VA 20192.

SUPPLEMENTARY INFORMATION:

I. Abstract

During FY10, the Volcano Hazards Program (VHP) will provide funding under the American Recovery and Reinvestment Act (ARRA) for improvement of the volcano and other monitoring systems and other monitoring-related activities that contribute to mitigation of volcano hazards. This notice concerns the collection of information that is sufficient and relevant to evaluate and select proposals for funding under the VHP. We will accept proposals from State geological surveys and academic institutions requesting funds to assist in the monitoring of active volcanoes and to conduct volcano-related research. Financial assistance will be awarded on a competitive basis following the evaluation and ranking of State and academic proposals. VHP proposals will be reviewed by a peer panel of six (6) members. Five members will be Department of the Interior representatives and one member will be an external representative. To submit a proposal, you must follow the written guideline (that will be made available at http://www.Grants.gov) and complete a project narrative. The application must be submitted via Grants.gov. Grant recipients must complete a final technical report at the end of the project period. Narrative and report guidance is available through http://volcanoes.usgs.gov/ and at http://www.Grants.gov.

II. Data

OMB Control Number: 1028-0090.

Title: Volcano Hazards Program (VHP).

Type of Request: Extension of a currently approved information collection.

Respondent Obligation: Required to obtain or retain benefits.

Frequency of Collection: On occasion.

Description of Respondents: State Geological Surveys and academic institutions.

Estimated Number of Annual Responses: 20 applications and 12 final reports.

Estimated Annual Reporting and Recordkeeping “Hour” Burden: 796 hours. We expect to receive approximately 20 applications. It will take each applicant approximately 35 hours to complete the narrative and present supporting documents. This includes the time for project conception and development, proposal writing, and reviewing and submitting the proposal application through Grants.gov (totaling 700 burden hours). We anticipate awarding 12 grants per year. The award recipients must submit a final report at the end of the project. We estimate that it will take approximately 8 hours to complete the requirement for that report (totaling 96 hours).

Estimated Reporting and Recordkeeping “Non-Hour Cost” Burden: There are no “non-hour cost” burdens associated with this collection of information.

III. Request for Comments

On November 16, 2009, we published a Federal Register notice (74 FR 58973) announcing that we would submit this information to OMB for approval. We solicited comments for a period of 60 days, ending on January 15, 2010. We did not receive any comments concerning that Federal Register notice.

We again invite comments concerning this ICR on: (a) Whether the proposed collection of information is necessary for the agency to perform its duties, including whether the information is useful; (b) the accuracy of the agency's estimate of the burden on the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at any time. While you can ask us in your comment to withhold your personal identifying information from public review, we cannot guarantee that we will be able to do so.

Dated: January 26, 2010.
Suzette Kimball,
Associate Director for Geology, U.S. Geological Survey.

[FR Doc. 2010-2647 Filed 2-5-10; 8:45 am]

BILLING CODE 4311-AM-P